FEDERAL COMMUNICATIONS COMMISSION

[FR ID 72202]

Open Commission Meeting Friday, February 18, 2022

February 11, 2022. The Federal Communications Commission will hold an Open Meeting on the subjects listed below on Friday, February 18, which is scheduled to commence at 10:30 a.m.

Due to the current COVID-19 pandemic and related agency telework and headquarters access policies, this meeting will be in a wholly electronic format and will be open to the public on the internet via live feed from the FCC's web page at www.fcc.gov/live and on the FCC's YouTube channel.

Item No. | Bureau | Subject
1 | WIRELINE COMPETITION | Title: Promoting Telehealth in Rural America (WC Docket No. 17-310).
|  | Summary: The Commission will consider a Further Notice of Proposed Rulemaking that would seek comment on reforms to the urban and rural rates determination process for the Rural Health Care Program's Telecommunications Program, revisions to Rural Health Care Program rules governing the internal funding cap on upfront payments and multi-year contracts, and modifications to the Rural Health Care Program invoicing procedures.
2 | WIRELINE COMPETITION | Title: Aureon Refund Data Order (WC Docket No. 18-60).
|  | Summary: The Commission will consider an Order requiring Iowa Network Access Division (d/b/a Aureon) to file cost and demand data to enable Commission staff to calculate appropriate refunds due to Aureon's customers after two investigations into Aureon's tariffed switched transport rate.
3 | MEDIA | Title: Updating Technical Rules for Radio Broadcasters (MB Docket No. 21-263).
|  | Summary: The Commission will consider a Report and Order to eliminate or amend outmoded or unnecessary broadcast technical rules.
4 | ENFORCEMENT | Title: Enforcement Bureau Action.
|  | Summary: The Commission will consider an enforcement action.

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Marlene Dortch,
Secretary.

[FR Doc. 2022-03646 Filed 2-18-22; 8:45 am]

BILLING CODE 6712-01-P